DEPARTMENT OF JUSTICE

Antitrust Division

Notice Pursuant to the National Cooperative Research and Production Act of 1993—National Armaments Consortium

Notice is hereby given that, on July 11, 2025, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Temper Corp., Fonda, NY; Composite Energy Technologies, Inc., Bristol, RI; FIDELIUM LLC, Virginia Beach, VA; Two Six Labs LLC dba Two Six Technologies, Arlington, VA; Busek Co., Inc., Natick, MA; ITT Enidine, Orchard Park, NY; Kurt Manufacturing Company, Minneapolis, MN; MGCX Solutions LLC, Glen Allen, VA; GrammaTech, Ithaca, NY; CGI Federal, Inc., Fairfax, VA; AISensation LLC, Mission Viejo, CA; Onebrief, Honolulu, HI; Jabil Defense and Aerospace Services LLC, St Petersburg, FL; Synergistic, Inc., New Baltimore, MI; Star Cases LLC dba Zero Manufacturing, North Salt Lake, UT; PavCon LLC, Latrobe, PA; UT-BATTELLE LLC, Oak Ridge, TN; Elementum 3D, Inc., Erie, CO; PARADORN LLC, La Plata, MD; Teleios Defense Solutions LLC, Huntsville, AL; TEC-MASTERS, INC., Huntsville, AL; Walaris LLC, Peachtree Corners, GA; Repkon USA—Defense LLC, Tampa, FL; Velocity Magnetics, Inc., New Castle, PA; Allen Control Systems, Inc., Austin, TX; Katz Water Technologies, Inc., Houston, TX; Global Business Solutions LLC (GBSI), Pensacola, FL; RJ Lee Group, Inc., Pittsburgh, PA; SATCOM Direct Government LLC, Melbourne, FL; Chronos AI, Inc., Bellevue, WA; Parts Life, Inc., Moorestown, NJ; Scout AI, Inc., Sunnyvale, CA; Next Tier Concepts, Inc., Vienna, VA; One Kappa Corp. (Icarus, fka) dba Ikaros Industries East, Amherst, NY have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on February 17, 2025. A notice was published in the Federal Register pursuant to section 6(b) of the Act on April 21, 2025 (90 FR 16701).

Suzanne Morris,
Deputy Director Civil Enforcement Operations, Antitrust Division.

[FR Doc. 2025-15576 Filed 8-14-25; 8:45 am]

BILLING CODE P